DEPARTMENT OF HEALTH AND HUMAN SERVICES

Centers for Medicare & Medicaid Services

[Document Identifier: CMS-10036, CMS-10161 and CMS-1880/1882]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Inpatient Rehabilitation Facility Patient Assessment Instrument (IRF-PAI) data and Supporting Regulations in 42 CFR 412 Subpart P; Use: This instrument with its supporting manual is needed to permit the Secretary of Health and Human Services, and CMS, to implement section 1886(j) of the Social Security Act. The statute requires the Secretary to develop a prospective payment system for inpatient rehabilitation facility services for the Medicare program. This payment system is to cover both operating and capital costs for inpatient rehabilitation facility services. It applies to inpatient rehabilitation hospitals as well as rehabilitation units of acute care hospitals. CMS implemented the inpatient rehabilitation facility prospective payment system for cost reporting periods beginning on or after January 1, 2002. Form Number: CMS-10036 (OMB# 0938-0842); Frequency: Annually; Affected Public: Business or other for-profit, Not-for-profit institutions, State, Local or Tribal Governments and Federal Government; Number of Respondents: 1202; Total Annual Responses: 396,660; Total Annual Hours: 337,161.

2. Type of Information Collection Request: Extension of a currently approved collection; Title of Information Collection: New Freedom Initiative—Web-based Reporting System for Grantees; Use: CMS currently awards competitive grants to States and other eligible entities for the purpose of designing and implementing effective and enduring improvements in community-based long-term services and support systems. CMS currently requires grantees to report on a quarterly, semi-annual, and or annual basis depending upon the grant type. CMS requires the information obtained through web-based grantee reporting for two reasons: (1) In order to effectively monitor the grants; and, (2) To report to Congress and other interested stakeholders the progress and obstacles experienced by the grantees. The grantees are the respondents to the web-based reporting system. Form Number: CMS-10161 (OMB# 0938-0979); Frequency: annually, semi-annually, and quarterly; Affected Public: State, Local or Tribal Governments; Number of Respondents: 171; Total Annual Responses: 428; Total Annual Hours: 3,764.

3. Type of Information Collection Request: Extension of a currently approved collection; Title of Information Collection: Request for Certification as a Supplier of Portable X-ray Services and Portable X-ray Survey Report Form under the Medicare/Medicaid Program and Supporting Regulations in 42 CFR 486.100-486.110; Use: The Medicare program requires portable X-ray suppliers to be surveyed for health and safety standards. The CMS-1882 is the survey form that records survey results. The CMS-1880 is used by the surveyor to determine if a portable X-ray applicant meets the eligibility requirements. Form Numbers: CMS-1880/1882 (OMB# 0938-0027); Frequency: Occasionally; Affected Public: State, Local or Tribal Governments; Number of Respondents: 544; Total Annual Responses: 68; Total Annual Hours: 4,760.

To obtain copies of the supporting statement and any related forms for the proposed paperwork collections referenced above, access CMS' Web site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by December 23, 2008:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number___, Room C4-26-05, 7500 Security Boulevard, Baltimore, Maryland 21244-1850.

Dated: October 16, 2008.
Michelle Shortt,
Director, Regulations Development Group, Office of Strategic Operations and Regulatory Affairs.

[FR Doc. E8-25206 Filed 10-23-08; 8:45 am]

BILLING CODE 4120-01-P